DEPARTMENT OF THE INTERIOR

Bureau of Land Management

[LLES 930 000 L13200000.EL0000; WVES 50556, WVES 50560]

Notice of Competitive Coal Lease Sale, WVES 50556 and WVES 50560, Wayne County, WV

AGENCY: Bureau of Land Management, Interior.

ACTION: Notice.

SUMMARY: Notice is hereby given that certain coal resources in Wayne County, West Virginia, known as East Lynn Lake (ELL) Argus (WVES 50556) and ELL Rockspring (WVES 50560) described below will be offered for competitive lease by sealed bid in accordance with the provisions of the Mineral Leasing Act of 1920, as amended.

DATES: The lease sale will be held at 1 p.m. on December 4, 2014. Sealed bids must be received on or before 10 a.m. on December 4, 2014.

ADDRESSES: The lease sale will be held at the Bureau of Land Management office, 20 M Street SE., Washington, DC 20003, 2nd floor Conference Room. Sealed bids must be mailed or delivered to: BLM Eastern States Office, 20 M Street SE., Washington, DC 20003 Attn: Davida Carnahan, WS 9204. Each bid should be clearly marked on the outside of the envelope that it is a sealed bid and clearly identify the LBA serial number (WVES 50560 or WVES 50556) for which it is intended.

FOR FURTHER INFORMATION CONTACT: Michael W Glasson, Solid Minerals Program Lead, at 202-912-7723; email mglasson@blm.gov. Persons who use a telecommunications device for the deaf (TDD) may call the Federal Information Relay Service (FIRS) at 1-800-877-8339 to contact Mr. Glasson during normal business hours. The FIRS is available 24 hours a day, 7 days a week, to leave a message or question for Mr. Glasson. You will receive a reply during normal business hours.

SUPPLEMENTARY INFORMATION: This coal lease sale is being held in response to two leases by application (LBAs) received by the BLM Eastern States Office.

The coal resources in the ELL Argus tract, Serial Number WVES 50556, are being offered in response to the LBA filed by Argus Energy WV, LLC, and consist of all reserves recoverable by underground room and pillar mining methods, with first extraction only, in lands located in southeastern Wayne County, West Virginia. These lands lie approximately 1 mile south of East Lynn, West Virginia, on United States Army Corp of Engineers (USACE)-administered surface with BLM-administered minerals. The sub-tracts listed below (A, B and C) are so named by the USACE, in dividing the lands following their acquisition:

Sub-tract A: 177M-1, 177M-14, 177M-11, 1717M, 1813M, 2321M, containing 838.80 acres

Sub-tract B: 177M-1, 745M, 746M, 808, 840M, 843M, 846M, 1140M, 1140, 1301, 1313M, 1330M, 1718M, 1810M, 1811M, 1813M, 2020M, 2737, containing 5,372.20 acres

Sub-tract C: 177M-12, 177M-1, 2321M, 2430M, 2431M, containing 1,430.63 acres

The areas described aggregate 7,641.63 acres.

The land in sub-tracts A, B, and C constitutes less than the entire tract acquired by the United States (of nearly 25,000 acres) and is described in accordance with 43 CFR 3471.1-1.

Further detailed definition of the tract can be found at: http://www.blm.gov/es/st/en/prog/east_lynn_lake_coal/documents.html. It should be noted that prior to entering onto the lease tract for any reason, the successful bidder and/or eventual lessee will be responsible for a survey of the boundaries of this tract, to be used as the final legal boundary certificate for this tract. The ELL Argus tract (WVES 50556) has one minable coal bed known as Coalburg/Winifrede (C/W). The minable portions of the C/W coal bed in this area are from 3.0 feet up to 8.7 feet in thickness. First mining only will leave coal pillars, structural barriers and gas well barriers behind. The ELL Argus tract reserve contains 15 million tons of recoverable high-volatile A and B bituminous coal. The estimated average coal quality range in the bed on an “as received basis” is as follows:

12,500-13,200 Btu/lb.

7.00 Percent moisture *

4.5-8.5 Percent ash

28.0-32.0 Percent volatile matter

50.0-53.0 Percent fixed carbon

0.4-0.9 Percent sulfur

* Estimated as received moisture; also used for calculating as received from dry basis.

The resources in the ELL Rockspring tract, Serial Number WVES 50560, are being offered in response to the LBA filed by Rockspring Development, Inc., and consist of all coal recoverable by underground room and pillar, first mining only, mining methods in lands located in Wayne County, West Virginia. These lands lie approximately 20 miles south of Huntington, West Virginia, on USACE-administered surface with BLM-administered minerals. The sub-tracts listed below (A-E) are so named by the USACE, in dividing the lands following their purchase:

Sub-tract A: 174M, 184M, 177M-1, 375M, 377M, 376ME-1, 376ME-2, 382M, 545M, 554M, 390ME-1, 395M, 378M, 380M, 381M, 384M, 386M, 177M-2, 430M, 556M, containing 1,517.00 acres

Sub-tract B: 177M-1, containing 320.00 acres

Sub-tract C: 430M, 177M-1, 177M-2, 382M, 545M, 553M, 554M, 550M, 547M, 548M, 745M, 1450M, 1451M, 1452M, 1453M, 517A, 517B, containing 1,912.00 acres

Sub-tract D: 177M-1, containing 72.00 acres

Sub-tract E: 177M-1, 1718M, 1717M-1, containing 1,274.00 acres

Sub-tract F: 177M-1, containing 358.00 acres

The areas described aggregate 5,453.00 acres.

The land in sub-tracts A, B, C, D, E and F constitutes less than the entire tract acquired by the United States (of nearly 25,000 acres) and is described in accordance with 43 CFR 3471.1-1.

Further detailed definition of the tract can be found at: http://www.blm.gov/es/st/en/prog/east_lynn_lake_coal/documents.html.

It should be noted that prior to entering onto the lease tract for any reason, the successful bidder and/or eventual lessee will be responsible for a survey of the boundaries of this tract, to be used as the final legal boundary certificate for this tract. The ELL Rockspring tract (WVES 50560) has one minable coal bed, the C/W seam. The minable portions of the coal bed in this area are approximately 6 to 10 feet in thickness. First mining only will leave coal pillars, structural barriers, and gas well barriers behind. The ELL Rockspring tract contains approximately 11 million tons of recoverable high-volatile A and B bituminous coal. The coal quality in the coal bed on an “as received basis” is as follows:

12,500-13,200 Btu/lb.

7.00 Percent moisture *

4.5-8.5 Percent ash

28.0-32.0 Percent volatile matter

50.0-53.0 Percent fixed carbon

0.4-0.9 Percent sulfur

Totals do not equal 100 percent due to rounding.

* Estimated as received moisture; also used for calculating as received from dry basis

The Argus and Rockspring tracts will be leased to the qualified bidders with the highest cash amount, provided that the high bid meets or exceeds the BLM's estimate of the value for each tract. The minimum bid for each tract is $100 per acre or fraction thereof. No bid that is less than $100 per acre, or fraction thereof, will be considered. The bids should be sent by certified mail, return receipt requested, or be hand-delivered.

The BLM Eastern States Office Cashier will mail a receipt for each hand-delivered bid; each hand delivered bid will be “date-stamped” by the BLM. Bids received after 10 a.m. local time on December 4, 2014, will not be considered. The minimum bid is not intended to represent fair market value (FMV). The FMV of the tract will be determined by the Authorized Officer after the sale. The leases that may be issued as a result of this offering will provide for payment of an annual rental of $3 per acre, or fraction thereof, and a royalty payment to the United States of 8 percent of the value of the coal produced by underground room and pillar mining methods (the only mining method considered on these tracts). The value of the coal will be determined in accordance with 30 CFR 1206.250.

Bidding instructions for the LBA tracts offered and the terms and conditions of the proposed lease sale are available from the BLM Eastern States Office. Any company or individual intending to bid on either tract must understand that the successful bidder is subject to the requirements of the Memorandum of Understanding between the BLM and the USACE signed March 15, 2012 (see detailed leasing statement). Case file documents, WVES 50556 and WVES 50560, and written comments submitted by the public on FMV or royalty rates, except those portions identified as proprietary by the commentator and meeting exemptions stated in the Freedom of Information Act, are available for inspection at the BLM Eastern States Office.

John F. Ruhs,
State Director, Eastern States.

[FR Doc. 2014-24920 Filed 10-17-14; 8:45 am]

BILLING CODE 4310-GJ-P